COMMITTEE FOR PURCHASE FROM PEOPLE WHO ARE BLIND OR SEVERELY DISABLED

Procurement List; Addition and Deletions

AGENCY: Committee for Purchase From People Who Are Blind or Severely Disabled.

ACTION: Addition to and Deletions from Procurement List.

SUMMARY: This action adds to the Procurement List a service to be furnished by nonprofit agencies employing persons who are blind or have other severe disabilities, and deletes from the Procurement List products previously furnished by such agencies.

DATES: Effective Date: 12/14/2008.

ADDRESSES: Committee for Purchase From People Who Are Blind or Severely Disabled, Jefferson Plaza 2, Suite 10800, 1421 Jefferson Davis Highway, Arlington, Virginia 22202-3259.

FOR FURTHER INFORMATION CONTACT: Emily A. Covey, Telephone: (703) 603-7740, Fax: (703) 603-0655, or e-mail CMTEFedReg@AbilityOne.gov.

SUPPLEMENTARY INFORMATION:

Addition

On 8/29/2008, the Committee for Purchase From People Who Are Blind or Severely Disabled published notice (73 FR 50931) of proposed additions to the Procurement List.

After consideration of the material presented to it concerning capability of qualified nonprofit agencies to provide the service and impact of the addition on the current or most recent contractors, the Committee has determined that the service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the service to the Government.

2. The action will result in authorizing small entities to furnish the service to the Government.

3. There are no known regulatory alternatives which would accomplish the objectives of the Javits-Wagner-O'Day Act (41 U.S.C. 46-48c) in connection with the service proposed for addition to the Procurement List.

End of Certification

Accordingly, the following service is added to the Procurement List:

Service

Service Type/Location: BSC, Base Supply Center, Ft Sam Houston, 2101 7th St Bldg 4197, Ft Sam Houston, TX.

NPA: San Antonio Lighthouse for the Blind, San Antonio, TX.

Contracting Activity: DEPT OF THE ARMY, XR W6BB ACA SAM HOUSTON.

Deletions

On 8/1/2008 and 9/12/2008 respectively, the Committee for Purchase From People Who Are Blind or Severely Disabled published notices (73 FR 44961 and 73 FR 52947) of proposed deletions to the Procurement List.

After consideration of the relevant matter presented, the Committee has determined that the product(s) and/or service(s) listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Pad, Folio

NSN: 7510-01-484-4590—Pad, Folio.

NPA: Winston-Salem Industries for the Blind, Winston-Salem, NC.

Contracting Activity: GSA/FSS OFC SUP CTR—PAPER PRODUCTS, NEW YORK, NY.

Pad, Scouring

NSN: 7920-01-499-1617—Pad, Scouring, 2002.

NPA: Beacon Lighthouse, Inc., Wichita Falls, TX.

Contracting Activity: GSA/FAS SOUTHWEST SUPPLY CENTER (QSDAC), FORT WORTH, TX.

Tape, Electronic Data Processing

NSN: 7045-01-364-2466—Tape, Electronic Data Processing.

NPA: North Central Sight Services, Inc., Williamsport, PA.

Contracting Activity: DEFENSE SUPPLY CENTER PHILADELPHIA, PHILADELPHIA, PA.

Emily A. Covey,
Acting Director, Program Operations.

[FR Doc. E8-27089 Filed 11-13-08; 8:45 am]

BILLING CODE 6353-01-P